FARM CREDIT ADMINISTRATION

12 CFR Parts 615, 621, and 652

RIN 3052-AC75

Funding and Fiscal Affairs, Loan Policies and Operations, and Funding Operations; Accounting and Reporting Requirements; Federal Agricultural Mortgage Corporation Funding and Fiscal Affairs; GAAP References and Other Conforming Amendments; Effective Date

AGENCY: Farm Credit Administration.

ACTION: Notice of effective date.

SUMMARY: The Farm Credit Administration adopted technical amendments to various regulations to conform certain references to accounting standards in these rules to the Financial Accounting Standards Board Accounting Standards Codification. In accordance with the law, the effective date of the final rule is 30 days from the date of publication in the Federal Register during which either or both Houses of Congress are in session.

DATES: Effective Date: Under the authority of 12 U.S.C. 2252, the regulation amending 12 CFR parts 615, 621, and 652 published on April 9, 2013 (78 FR 21035) is effective June 3, 2013.

FOR FURTHER INFORMATION CONTACT: Michael T. Wilson, Policy Analyst, Office of Regulatory Policy, Farm Credit Administration, McLean, VA 22102-5090, (703) 883-4124, TTY (703) 883-4056; or Jeff Pienta, Senior Attorney, Office of General Counsel, Farm Credit Administration, McLean, Virginia 22102-5090, (703) 883-4431, TTY (703) 883-4056.

SUPPLEMENTARY INFORMATION: The Farm Credit Administration adopted technical amendments to various regulations to conform certain references to accounting standards in these rules to the Financial Accounting Standards Board Accounting Standards Codification. In accordance with 12 U.S.C. 2252, the effective date of the final rule is 30 days from the date of publication in the Federal Register during which either or both Houses of Congress are in session. Based on the records of the sessions of Congress, the effective date of the regulations is June 3, 2013.

(12 U.S.C. 2252(a)(9) and (10))

Dated: June 4, 2013.
Dale L. Aultman,
Secretary, Farm Credit Administration Board.

[FR Doc. 2013-13636 Filed 6-7-13; 8:45 am]

BILLING CODE 6705-01-P